DEPARTMENT OF ENERGY

Federal Energy Regulatory Commission

[Docket Nos. ER06-615-000, ER07-1257-000, ER08-1113-000, ER08-1178-000, ER09-241-000]

California Independent System Operator Corporation; Notice of FERC Staff Attendance

April 20, 2009.

The Federal Energy Regulatory Commission (Commission) hereby gives notice that on the following dates members of its staff will participate in teleconferences and meetings to be conducted by the California Independent System Operator (CAISO). The agenda and other documents for the teleconferences and meetings are available on the CAISO's Web site, www.caiso.com.

April 22, 2009 MRTU Post Go Live Workshop Demand Response Meeting.

April 24, 2009 Participating Intermittent Resource Program.

April 27, 2009 Congestion Revenue Rights.

April 28, 2009 BPM Change Management Meeting.

April 29, 2009 Payment Acceleration Working Group.

April 30, 2009 Demand Response—Direct Participation Issues and PDR Meeting.

Sponsored by the CAISO, the teleconferences and meetings are open to all market participants, and Commission staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-9486 Filed 4-24-09; 8:45 am]

BILLING CODE 6717-01-P